DEPARTMENT OF HEALTH AND HUMAN SERVICES

Office of the Secretary

[Document Identifier: OS-0990-0275; 30-Day Notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Revision.

Title of Information Collection: Development of an Evaluation Protocol for Assessing Impacts of OMH State Initiatives.

Form/OMB No.: 0990-0275.

Use: This request for clearance involves modification of the OMB approved Office of Minority Health (OMH) Uniform Data Set (UDS) (OMB No. 0990-0275). The UDS is the regular system for reporting program management and performance data for all OMH-funded activities. The modifications to the UDS requested in this application are intended to: (1) Accommodate grant programs that were not required to use the UDS at the time the system was developed; and (2) continue the development of the UDS as a reporting system that will capture the types of data needed to identify best practices and assess the progress of OMH-funded activities. The UDS has been implemented with 8 sets of grantees and cooperative agreement partners from 5 OMH funding programs. The recommended modifications will allow reporting by OMH partners receiving funding through the State Initiative and Umbrella Cooperative Agreement programs. These changes will improve OMH evaluation and planning capacities and support program accountability.

Frequency: Reporting Semi-annually.

Affected Public: Not-for-profit institutions.

Annual Number of Respondents: 150.

Total Annual Responses: 2.

Average Burden per Response: 4.5 hours.

Total Annual Hours: 1350.

To obtain copies of the supporting statement and any related forms for the proposed paperwork collections referenced above, e-mail your request, including your address, phone number, OMB number, and OS document identifier, to Sherette.funncoleman@hhs.gov , or call the Reports Clearance Office on (202) 690-6162. Written comments and recommendations for the proposed information collections must be received within 30 days of this notice directly to the Desk Officer at the address below: OMB Desk Officer: John Kraemer, OMB Human Resources and Housing Branch, Attention: (OMB #0990-0275), New Executive Office Building, Room 10235, Washington, DC 20503.

Dated: May 15, 2007.
Alice Bettencourt,
Office of the Secretary, Paperwork Reduction Act Reports Clearance Officer.

[FR Doc. E7-10049 Filed 5-23-07; 8:45 am]

BILLING CODE 4150-29-P